DEPARTMENT OF VETERANS AFFAIRS

Genomic Medicine Program Advisory Committee, Notice of Meeting

The Department of Veterans Affairs (VA) gives notice under the Federal Advisory Committee Act 5 U.S.C. App. 2, that a meeting of the Genomic Medicine Program Advisory Committee (the Committee) will be held virtually on Wednesday, September 29, 2021. The meeting will begin at 11:30 a.m. EDT and adjourn at 3:30 p.m. EDT. The meeting is open to the public via Webex https://veteransaffairs.webex.com/veteransaffairs/j.php?MTID=m6736a5cdd10c19acb461d7de4d05eec6 password: n4XHwEk9y$8 or by phone at call-in +14043971596, meeting code: 1990514106##.

The Committee's purpose is to provide advice and make recommendations to the Secretary of Veterans Affairs on using genetic information to optimize medical care for Veterans and enhance the development of tests and treatments for diseases particularly relevant to Veterans.

On September 29, 2021, the Committee will receive updated briefings on various VA research programs, including the Million Veteran Program (MVP), to ascertain the program's progress in the areas of participant recruitment, data generation and storage, and data access. The Committee will also receive updates from ongoing MVP research, including a collaboration with the Department of Energy on suicide genetics, an update on precision oncology, and the VA Data Commons framework. Additionally, the Committee will discuss and explore potential recommendations for the next annual report.

Public comments will be received at 3:00 p.m. EDT and are limited to 5 minutes each. Individuals who speak are invited to submit a 1-2 page summary of their comments for inclusion in the official meeting record to Jennifer Moser, Designated Federal Officer, Office of Research and Development (14RD), 810 Vermont Avenue NW, Washington, DC 20420, or at Jennifer.Moser@va.gov. In the communication, writers must identify themselves and state the organization, association, or person(s) they represent. Any member of the public who wishes to attend the teleconference should RSVP to Jennifer Moser at 202-510-4253 no later than close of business, September 23, 2021, at the phone number or email address noted above.

Dated: August 17, 2021.
LaTonya L. Small,
Federal Advisory Committee Management Officer.

[FR Doc. 2021-17946 Filed 8-20-21; 8:45 am]

BILLING CODE P